DEPARTMENT OF HEALTH AND HUMAN SERVICES

Administration for Children and Families

Submission for OMB Review; Comment Request

Title: Evaluation of Domestic Victims of Human Trafficking Program.

OMB No.: 0970-0487.

Description: The Administration for Children and Families (ACF), U.S. Department of Health and Human Services (HHS) is proposing data collection as part of the study, “Evaluation of the Domestic Victims of Human Trafficking (DVHT) Program”. This notice addresses the cross-site process evaluation to be conducted with the 13 FY 2016 DVHT grantees who were awarded 3-year cooperative agreements by the Office of Trafficking in Persons (OTIP). The intent of the DVHT Program is to build, expand, and sustain organizational and community capacity to deliver trauma-informed, strength-based, and victim-centered services for domestic victims of severe forms of human trafficking through coordinated case management, a system of referrals and the formation of community partnerships.

The objective of the evaluation is to describe the ways in which projects achieve the goals of the DVHT Program and examine types of models that serve victims of human trafficking. Evaluation questions are focused on understanding project and service delivery models, process, and implementation; including partnership and collaboration development; services offered to and received by victims, strategies to identify and engage survivors; ways projects define and monitor program successes and outcomes; and program challenges, achievements, and lessons learned. Information from the evaluation will assist federal, state, and community policymakers and funders in making decisions about future program models to serve domestic victims of human trafficking, as well as to refine evaluation strategies for future programs targeting trafficking victims.

The evaluation of the DVHT Program will document and describe grantees' projects and implementation approaches, including their service models and community partners; services provided to clients (i.e., victims of severe forms of human trafficking); service delivery practices; strategies to meet survivors' immediate and long-term housing needs; and approaches to engaging survivors in program development and service delivery.

Primary data for the evaluation will be collected via surveys with project directors, case managers, and key community partners; and semi-structured qualitative interviews, including telephone interviews with project directors, in-person interviews with select project staff, survivor leaders, and program partners, and individual interviews with program clients. Interviews from multiple perspectives will enhance the government's understanding of appropriate service models and practice strategies for identifying, engaging, and meeting the needs of diverse populations of victims of severe forms of human trafficking. Data collection will take place after receiving OMB approval through March 2020.

Data collection for an exploratory evaluation of the DVHT FY15 grantees (“Domestic Human Trafficking Demonstration Projects”) is being conducted under a prior Information Collection Request under 0970-0487. The data have provided insight into approaches grantees used to enhance organizational and community capacity, identify domestic victims, and deliver case management and direct services in collaboration with their community partners. The currently proposed data collection for DVHT FY16 will build on this earlier data collection for the DVHT FY15 study to understand strategies and program models implemented by the grantees in various program contexts. All data collection approved for DVHT FY15 is complete.

Respondents: Project directors, case managers, survivor leaders, other select project staff, key community partners, and clients.

Annual Burden Estimates
Instrument | Total number of respondents | Annual number of respondents | Number of responses per respondent | Average burden hours per response | Annual burden hours
Project Director Survey | 13 | 7 | 1 | .5 | 4
Partner Survey | 260 | 130 | 1 | .25 | 33
Case Manager Survey | 130 | 65 | 1 | .33 | 21
Project Director Interview #1 | 13 | 7 | 1 | 2 | 14
Project Director Interview #2 | 13 | 7 | 1 | 1.5 | 11
Site Visit Interview Guide | 136 | 68 | 1 | 1.5 | 102
Client Interview Guide | 40 | 20 | 1 | 1 | 20

Estimated Total Annual Burden Hours: 205.

Additional Information: Copies of the proposed collection may be obtained by writing to the Administration for Children and Families, Office of Planning, Research and Evaluation, 330 C Street SW, Washington, DC 20201, Attn: OPRE Reports Clearance Officer. All requests should be identified by the title of the information collection. Email address: OPREinfocollection@acf.hhs.gov.

OMB Comment: OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Emily B. Jabbour,
ACF/OPRE Certifying Officer.

[FR Doc. 2018-17563 Filed 8-14-18; 8:45 am]

BILLING CODE 4184-47-P